DEPARTMENT OF COMMERCE

National Oceanic and Atmospheric Administration

15 CFR Part 909

[Docket No. 011219305-1305-01]

RIN 0648-AP77

Regulations Relating to Disclosure of Information and Employee Testimony in Litigation; Removal of Obsolete Regulations

AGENCY: National Oceanic and Atmospheric Administration, Department of Commerce.

ACTION: Final rule.

SUMMARY: The National Oceanic and Atmospheric Administration (NOAA) issues this final rule to remove and reserve regulations concerning the policies and procedures relating to the disclosure of information and employee testimony in litigation not involving the United States. These regulations are removed because they have been superseded by other regulations. The intended effect is to ensure that NOAA policies and procedures are consistent and not redundant with other regulations of the Department of Commerce.

DATES: Effective February 20, 2002.

FOR FURTHER INFORMATION CONTACT: Glenn E. Tallia, NOAA Senior Counselor for Atmospheric and Space Services and Research (GCW), SSMC 3, Mail Stop 15861, 1315 East-West Highway, Silver Spring, MD 20910; (301) 713-1337.

SUPPLEMENTARY INFORMATION:

Background

NOAA issues this final rule to remove provisions from its internal conduct regulations, codified at 15 CFR part 909. This part contains policies and procedures regarding disclosure of information and employee testimony in litigation not involving the United States. This part is removed and reserved because it has been superseded by regulations on the same topic promulgated by the Department of Commerce, and codified at 15 CFR part 15, subpart B.

Classification

Executive Order 12866

This final rule has been determined to be not significant for purposes of E.O. 12866.

Administrative Procedure Act

Pursuant to 5 U.S.C. 553(b)(A), prior notice and an opportunity for public comment and not required for this rule of agency organization, management and procedures. Further, this rule of agency organization, management and procedures is not a substantive rule, and is therefore not subject to the 30-day delay in effective date requirement of 5 U.S.C. 553(d).

Regulatory Flexibility Act

As this rule is not subject to the requirement to provide prior notice and an opportunity for public comment pursuant to 5 U.S.C. 553, or any other law, it is not subject to the analytical requirements of the Regulatory Flexibility Act, 5 U.S.C. 601 et seq.

Paperwork Reduction Act

This rule does not contain or involve any information collection requirements that require the approval of the Office of Management and Budget pursuant to the Paperwork Reduction Act, 44 U.S.C. chapter 35.

List of Subjects in 15 CFR Part 909

Courts, Government employees.

Accordingly, for the reasons set forth in the preamble and under the authority contained in 5 U.S.C. 301; 15 U.S.C. 1501, 1512, 1513, 1515 and 1518; Reorganization Plan No. 5 of 1950; 3 CFR, 1949-1953 Comp., p. 1004; and 44 U.S.C. 3101; remove and reserve 15 CFR part 909.

Dated: February 14, 2002.
Craig R. O'Connor,
Acting General Counsel, NOAA.

[FR Doc. 02-4058 Filed 2-19-02; 8:45 am]

BILLING CODE 3510-12-M